DEPARTMENT OF THE INTERIOR

Fish and Wildlife Service

Proposed Low-Effect Habitat Conservation Plan for the Monument Creek Interceptor Tie-In Along Jackson Creek, El Paso County, CO

AGENCY: Fish and Wildlife Service, Interior.

ACTION: Notice of availability and receipt of application; correction.

SUMMARY: The Fish and Wildlife Service published a document in the Federal Register of February 15, 2005, concerning request for comments on an incidental take permit application by Triview Metropolitan District and Forest Lakes Metropolitan District, which includes a Low-Effect Habitat Conservation Plan for the Preble's meadow jumping mouse, Zapus hudsonius preblei, federally-listed as threatened, through loss and modification of its habitat associated with construction of a new sanitary sewer line extension connecting to an existing sewer line, a non-potable water reuse line, a secondary sewer line, and a new dirt access road into the Upper Monument Creek Wastewater Treatment Facility on Jackson Creek, El Paso County, Colorado. The document contained incorrect dates.

FOR FURTHER INFORMATION CONTACT: Ms. Barbara Spagnuolo, (303) 275-2370.

Correction

In the Federal Register of February 15, 2005, in FR Doc. 05-2850, on page 7754, in the second column, correct the “Dates” caption to read:

DATES: Written comments should be received on or before March 17, 2005.

Dated: February 18, 2005.
Richard A. Coleman,
Acting Regional Director, Denver, Colorado.

[FR Doc. 05-3749 Filed 2-25-05; 8:45 am]

BILLING CODE 4310-55-P